DEPARTMENT OF LABOR

Employment and Training Administration

[TA-W-56,114]

Bourns Microelectronics Modules, Inc., Formerly Known as Microelectronics Modules Corporation, a Subsidiary of Bourns, Inc., New Berlin, WI; Dismissal of Application for Reconsideration

Pursuant to 29 CFR 90.18(C) an application for administrative reconsideration was filed with the Director of the Division of Trade Adjustment Assistance for workers at Bourns Microelectronics Modules, Inc., formerly known as Microelectronics Modules Corporation, a subsidiary of Bourns, Inc., New Berlin, Wisconsin. The application contained no new substantial information which would bear importantly on the Department's determination. Therefore, dismissal of the application was issued.

TA-W-56,114; Bourns Microelectronics Modules, Inc., formerly known as Microelectronics Modules Corporation, a subsidiary of Bourns, Inc., New Berlin, Wisconsin (March 10, 2005)

Signed at Washington, DC, this 11th day of March, 2005.
Timothy Sullivan,
Director, Division of Trade Adjustment Assistance.

[FR Doc. E5-1240 Filed 3-21-05; 8:45 am]

BILLING CODE 4510-30-P